DEPARTMENT OF LABOR

Employment and Training Administration

[TA-W-85,712; TA-W-85,712A]

Turbomeca Manufacturing, LLC a Division of Safran Including On-Site Leased Workers From Weiser Security Services, Inc., MSC Industrial Supply Co., and Cavalier Monroe, North Carolina and Labinal Power Systems Working On-Site at Turbomeca Manufacturing, LLC Monroe, North Carolina; Amended Certification Regarding Eligibility To Apply for Worker Adjustment Assistance

In accordance with Section 223 of the Trade Act of 1974, as amended (“Act”), 19 U.S.C. 2273, the Department of Labor issued a Certification of Eligibility to Apply for Worker Adjustment Assistance on January 15, 2015, applicable to workers of Turbomeca Manufacturing, LLC, a division of Safran, including on-site leased workers from Weiser Security Services, Inc., MSC Industrial Supply Co., and Cavalier, Monroe, North Carolina. The Department's Notice of Determination was published in the Federal Register on February 18, 2015 (80 FR 8692).

At the request of the company official, the Department reviewed the certification for workers of the subject firm. The firm is engaged in activities related to the production of precision machine components for helicopter engines and aircraft. The company confirmed that workers from Labinal Power Systems worked on-site at Turbomeca Manufacturing, LLC and were affected by the same shift in production that was the basis for certification.

The amended notice applicable to TA-W-85,712 is hereby issued as follows:

All workers of Turbomeca Manufacturing, LLC, a division of Safran, including on-site leased workers from Weiser Security Services, Inc., MSC Industrial Supply Co., and Cavalier, Monroe, North Carolina (TA-W-85,712) and Labinal Power Systems working on-site at Turbomeca Manufacturing, LLC, Monroe, North Carolina (TA-W-85,712A) who became totally or partially separated from employment on or after December 10, 2013 through January 15, 2017, and all workers in the group threatened with total or partial separation from employment on date of certification through two years from the date of certification, are eligible to apply for adjustment assistance under Chapter 2 of Title II of the Trade Act of 1974, as amended.

Signed in Washington, DC, this 6th day of April, 2015.
Michael W. Jaffe,
Certifying Officer, Office of Trade Adjustment Assistance.

[FR Doc. 2015-09658 Filed 4-24-15; 8:45 am]

BILLING CODE 4510-FN-P